DEPARTMENT OF AGRICULTURE

Foreign Agricultural Service

Trade Adjustment Assistance for Farmers

AGENCY: Foreign Agricultural Service, USDA.

ACTION: Notice.

The Administrator, Foreign Agricultural Service (FAS), today accepted a petition filed by the Olive Growers Council, Visalia, California 93291, for trade adjustment assistance for olive producers in the state of California. The Administrator will determine within 40 days whether or not increasing imports of processed olives in a saline solution contributed importantly to a decline in domestic producer prices of 20 percent or more during the marketing period beginning August 2003 and ending July 2004. If the determination is positive, all producers who market their olives in California will be eligible to apply to the Farm Service Agency for technical assistance at no cost and for adjustment assistance payments.

FOR FURTHER INFORMATION CONTACT: Jean-Louis Pajot, Coordinator, Trade Adjustment Assistance for Farmers, FAS, USDA, (202) 720-2916, e-mail: trade.adjustment@fas.usda.gov.

Dated: January 6, 2005.
A. Ellen Terpstra,
Administrator, Foreign Agricultural Service.

[FR Doc. 05-1083 Filed 1-19-05; 8:45 am]

BILLING CODE 3410-10-P